DEPARTMENT OF HEALTH AND HUMAN SERVICES

Health Resources and Services Administration

Agency Information Collection Activities: Proposed Collection: Public Comment Request; Information Collection Request Title: Pediatric Mental Health Care Access Program National Impact Study

AGENCY: Health Resources and Services Administration (HRSA), Department of Health and Human Services

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 8, 2024.

ADDRESSES: Submit your comments to paperwork@hrsa.gov or mail the HRSA Information Collection Clearance Officer, Room 14N39, 5600 Fishers Lane, Rockville, Maryland, 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Pediatric Mental Health Care Access Program National Impact Study, OMB No. 0915-xxxx—[New].

Abstract: This notice describes an information collection request for one of HRSA's Maternal and Child Health Bureau programs, the Pediatric Mental Health Care Access (PMHCA) Program. The PMHCA Program aims to promote behavioral health integration into pediatric primary care by supporting the development of state, regional, and tribal pediatric mental health care teleconsultation access programs. The PMHCA Program supports pediatric health professionals (HPs) ¹ in their delivery of high-quality and timely screening, assessment, treatment, and referrals for children and adolescents with behavioral health conditions through the provision of teleconsultation, care coordination support/navigation (e.g., resource identification and referrals), and training and education.

¹ Health professionals may include but are not limited to pediatricians, family physicians, physician assistants, advanced practice nurses/nurse practitioners, licensed practical nurses, registered nurses, counselors, social workers, medical assistants, patient care navigators.

The information will be collected from participants in HRSA PMHCA award recipient programs that were funded in 2021, 2022, or 2023. The 2021 and 2022 PMHCA programs are authorized by 42 U.S.C 254c-19 (Title III, § 330M of the Public Health Service Act), using funding appropriated by Section 2712 of the American Rescue Plan Act of 2021 (Pub. L. 117-2), and the 2023 PMHCA programs are authorized by 42 U.S.C 254c-19 (§ 330M of the Public Health Service Act), as amended by section 11005 of the Bipartisan Safer Communities Act (Pub. L. 117-159). To examine the impact of the PMHCA program on children and adolescents, this data collection will use two instruments: the HP Impact Survey and the Family/Caregiver Focus Group Discussion (FGD). Additionally, family members/caregivers identified by PMHCA programs to participate in the Family/Caregiver FGD will be asked demographic questions (Family/Caregiver Demographic Questionnaire) about themselves and their child/adolescent for the purpose of FGD sampling and to inform qualitative data analyses.

Need and Proposed Use of the Information: This information is needed by HRSA to examine PMHCA program impacts on children/adolescents and their families/caregivers in order to guide future program decisions. Specifically, data collected for the PMHCA Impact Study will be used to examine changes in children's and adolescents' and their families'/caregivers' access to behavioral health care; their subsequent receipt and utilization of behavioral health care, including culturally and linguistically appropriate care; related behavioral health impacts; and monetary and societal cost-benefits. The study will examine changes over time regarding enrolled/participating HPs' practices with screening, diagnosing, treating, and referring children and adolescents with behavioral health conditions and assess their perceptions of the behavioral health impact of the PMHCA Program. Additionally, the study will deepen understanding of families'/caregivers' experiences with behavioral health care access, receipt, and utilization; satisfaction with behavioral health care services; and the impact of behavioral health services on their children/adolescents.

Likely Respondents:

• HP Impact Survey: Pediatricians, family physicians, physician assistants, advanced practice nurses/nurse practitioners, licensed practical nurses, registered nurses, counselors, social workers, medical assistants;

• Family/Caregiver FGD: Family members and caregivers who have sought and/or received behavioral health care for their child(ren)/adolescent(s); and

• Family/Caregiver Demographic Questionnaire: Family members and caregivers who have sought and/or received behavioral health care for their child(ren)/adolescent(s).

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
HP Impact Survey | 21,070 | 2 | 42,140 | 0.17 | 7,163.80
Family/Caregiver FGD | 42 | 1 | 42 | 1.00 | 42
Family/Caregiver Demographic Questionnaire | 270 | 1 | 270 | .08 | 21.60
Total | 21,382 |  | 42,452 |  | 7,227.40

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-02357 Filed 2-5-24; 8:45 am]

BILLING CODE 4165-15-P